SMALL BUSINESS ADMINISTRATION

Data Collection Available for Public Comments

AGENCY: Small Business Administration.

ACTION: 60-Day notice and request for comments

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before September 26, 2022.

ADDRESSES: Send all comments to Joseph Eitel, Director, Office of Personnel Security, Small Business Administration, Denver, CO 80202.

FOR FURTHER INFORMATION CONTACT: Joseph Eitel, Director, Office of Personnel Security joseph.eitel@sba.gov 303-844-7750, or Curtis B. Rich, Agency Clearance Officer, 202-205-7030, curtis.rich@sba.gov.

SUPPLEMENTARY INFORMATION: Small Business Administration SBA Form 912 is used to collect information needed to make character determinations with respect to applicants for monetary loan assistance or applicants for participation in SBA programs. The information collected is used as the basis for conducting name checks at national Federal Bureau of Investigations (FBI) and local levels.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number 3245-0178.

Title: Statement of Personal History.

Description of Respondents: Applicants participating in SBA programs.

Form Number: SBA Form 912.

Total Estimated Annual Responses: 142,000.

Total Estimated Annual Hour Burden: 35,500.

Curtis B. Rich,
Agency Clearance Officer.

[FR Doc. 2022-16186 Filed 7-27-22; 8:45 am]

BILLING CODE 8026-09-P